ENVIRONMENTAL PROTECTION AGENCY

40 CFR Part 300

[FRL-6859-8]

National Oil and Hazardous Substances Pollution Contingency; National Priorities List

AGENCY: Environmental Protection Agency (EPA).

ACTION: Notice of deletion of the White Farm Equipment Landfill Superfund site (site) from the National Priorities List (NPL).

SUMMARY: The EPA Region VII announces the deletion of the White Farm Equipment Landfill site, Charles City, Iowa from the NPL. The NPL is appendix B of 40 CFR part 300 which is the National Oil and Hazardous Substances Pollution Contingency Plan (NCP), which EPA promulgated pursuant to section 105 of the Comprehensive Environmental Response, Compensation, and Liability Act of 1980 (CERCLA), as amended. The EPA and the state of Iowa have determined that the site poses no significant threat to public health or the environment and, therefore, no further remedial measures pursuant to CERCLA are appropriate.

EFFECTIVE DATE: October 30, 2000.

FOR FURTHER INFORMATION CONTACT: Catherine Barrett, Remedial Project Manager, U.S. EPA, Region VII, Superfund Division, 901 North 5th Street, Kansas City, Kansas 66101, telephone (913) 551-7704, fax (913) 551-7063.

SUPPLEMENTARY INFORMATION: The site to be deleted from the NPL is: White Farm Equipment Landfill site, Charles City, Iowa.

A Notice of Intent to Delete for this site was published in the Federal Register on September 7, 2000 (65 FR 54190). The closing date for comments on the Notice of Intent to Delete was October 10, 2000. No comments were received, therefore, EPA has not prepared a Responsiveness Summary. The EPA identifies sites that appear to present a significant risk to public health, welfare, or the environment and it maintains the NPL as the list of those sites. Any site deleted from the NPL remains eligible for fund-finances remedial actions in the unlikely event that conditions at the site warrant such action. Section 300.425(e)(3) of the NCP states that fund-financed actions may be taken at sites deleted from the NPL. Deletion of a site from the NPL does not affect responsible party liability or impede agency efforts to recover costs associated with response efforts.

List of Subjects in 40 CFR Part 300

Environmental protection, Air pollution control, Chemicals, Hazardous substances, Hazardous waste, Intergovernmental relations, Natural resources, Oil pollution, Penalties, Reporting and recordkeeping requirements, Superfund, Water pollution control, Water supply.

Dated: August 18, 2000.
Martha Steincamp,
Acting Regional Administrator, Region 7.

40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923, 3 CFR, 1987 Comp., p. 193.

Appendix B [Amended]

2. Table 1 of appendix B to part 300 is amended by deleting the White Farm Equipment Co. Dump, Charles City, Iowa site.

[FR Doc. 00-27578 Filed 10-27-00; 8:45 am]

BILLING CODE 6560-50-U